INTERNATIONAL TRADE COMMISSION

[Investigation No. 332-488]

Global Beef Trade: Effects of Animal Health, Sanitary, Food Safety, and Other Measures on U.S. Beef Exports

AGENCY: United States International Trade Commission.

ACTION: Change in deadline for filing written submissions and change in date for transmitting report.

SUMMARY: Following receipt of a letter dated January 29, 2008, from the Committee on Finance of the United States Senate (Committee) delaying the date for transmitting its report in investigation No. 332-488, Global Beef Trade: Effects of Animal Health, Sanitary, Food Safety, and Other Measures on U.S. Beef Exports, the Commission extended the time for filing written submissions in the investigation to May 6, 2008, and extended the time for transmitting its report to September 8, 2008.

January 30, 2008: Receipt of letter from the Committee.

May 6, 2008: New deadline for filing written submissions.

September 8, 2008: New date for transmitting the Commission's report to the Committee.

Background: In its original request, the Committee asked that the Commission provide its report in the investigation by June 6, 2008. In its January 29, 2008, letter the Committee extended the time for providing the report to September 8, 2008. Following receipt of the Committee's letter, the Commission adjusted its internal work schedule and also extended the deadline for filing written submissions relating to the investigation from February 29, 2008, to May 6, 2008.

The Commission published notice of institution of the investigation in the Federal Register on September 19, 2007 (72 FR 53603). The notice is also available on the Commission Web site at http://www.usitc.gov. All other information about the investigation, including a description of the subject matter to be addressed, contact information, procedures for filing written submissions, and Commission addresses, remains the same as in the original notice. The public record for this investigation may be viewed on the Commission's electronic docket (EDIS) at: http://www.usitc.gov/secretary/edis.htm.

Issued: February 14, 2008.
By order of the Commission.
Marilyn R. Abbott,
Secretary to the Commission.

[FR Doc. E8-3128 Filed 2-20-08; 8:45 am]

BILLING CODE 7020-02-P